DEPARTMENT OF COMMERCE

National Oceanic and Atmospheric Administration

50 CFR Part 648

[Docket No. 061124307-7013-02; I.D. 112106A]

RIN 0648-AT65

Fisheries of the Northeastern United States; Atlantic Mackerel, Squid, and Butterfish Fisheries; Specifications and Management Measures; Correction

AGENCY: National Marine Fisheries Service (NMFS), National Oceanic and Atmospheric Administration (NOAA), Commerce.

ACTION: Final rule; correction.

SUMMARY: On January 30, 2007, NMFS published a final rule implementing 2007 specifications and management measures for Atlantic mackerel, squid, and butterfish and modifying existing management measures. In the codified text of the final rule, there were errors in the description of the catch associated with the fishing mortality rate (F). Also, the acronyms used for F equal to the target F (F=0.12) and BMSY were published in the codified text without using standardized type production for these scientific terms. In the codified text for the procedures for closing the directed mackerel fishery NMFS inadvertently substituted the term “executed” for “exceeded” when describing when the Regional Administrator will close the fishery. This document corrects those errors.

DATES: Effective March 1, 2007.

FOR FURTHER INFORMATION CONTACT: Carrie Nordeen, Fishery Policy Analyst, 978-281-9272, fax 978-281-9135.

SUPPLEMENTARY INFORMATION: Regulations implementing the Fishery Management Plan for the Atlantic Mackerel, Squid, and Butterfish Fisheries (FMP) appear at 50 CFR part 648, subpart B, and regulations governing foreign fishing appear at 50 CFR part 600, subpart F. The final rule published on January 30, 2007 (72 FR 4211) and corrected on February 7, 2007 (72 FR 5643) identified the annual amounts of the initial optimum yield, allowable biological catch (ABC), domestic annual harvest, and domestic annual processing, as well as, where applicable, the amounts for total allowable level of foreign fishing and joint venture processing for the affected species managed under the FMP. The final rule implementing the Atlantic mackerel, squid, and butterfish fisheries specifications for 2007 also contained modifications to existing regulatory language to clarify that the most recent information should be used when developing annual specifications.

The regulatory text contained in § 648.22(b)(2) describes the procedure for calculating mackerel's ABC using a formula ABC = T - C, where C is the estimated catch of mackerel in Canadian waters for the upcoming fishing year and T is the catch associated with a fishing mortality rate that is equal to Ftarget at BMSY or greater and decreases linearly to zero at “1/2 BMSY” or below. Values for “Ftarget” and “BMSY” are as calculated in the most recent stock assessment. The final rule describes the reference points and formula, but does not include any values. This approach makes it clearer that the values from the most recent stock assessment are to be used when calculating mackerel ABC.

The codified text, § 648.21(b)(2), published in the January 30, 2007, final rule indicated that T is the catch associated with a fishing mortality rate that decreases linearly to zero at “BMSY” rather than “1/2 BMSY”. This document corrects that error in addition to making editorial corrections to the second sentence in this paragraph, which did not reflect the subscript normally used in the scientific terms “BMSY” and “FTARGET”. Therefore, this document corrects § 648.21(b)(2)(i) appearing on page 4217 (FR Doc. E7-1445), first column, first full paragraph, first two sentences, contained in the January 30, 2007 Federal Register document.

The final rule published January 30, 2007 (72 FR 4211) contained regulatory text, § 648.22(a) describing when NMFS will close the directed mackerel fishing. When the Regional Administrator, Northeast Region, NMFS, projects that 80 percent of the mackerel DAH is landed, a closure is necessary to prevent the DAH from being exceeded. However, the codified text contained the phrase “to prevent the DAH from being executed” rather than “exceeded”. This document corrects the codified text, § 648.22(a) on page 4217 (FR Doc. E7-1445), column 2, first sentence of paragraph (a)(1), contained in the January 30, 2007 Federal Register final rule document.

Correction

Accordingly, the final rule published on January 30, 2007, at 72 FR 4211 (FR Doc. E7-1445), to be effective March 1, 2007, is corrected as follows:

1. On page 4217, column 1, § 648.21 (b)(2)(i) is correctly revised to read as follows:

§ 648.21 Procedures for determining initial annual amounts.

* * * * *

(b) * * *

(2) * * *

(i) Mackerel ABC must be calculated using the formula ABC = T - C, where C is the estimated catch of mackerel in Canadian waters for the upcoming fishing year and T is the catch associated with a fishing mortality rate that is equal to Ftarget at BMSY or greater and decreases linearly to zero at 1/2 BMSY or below. Values for Ftarget and BMSY are as calculated in the most recent stock assessment.

* * * * *

§ 648.22 [Corrected]

2. On page 4217, column 2, § 648.22 (a)(1), in the seventh line, correctly revise “executed” to read “exceeded”.

Dated: February 22, 2007.
Samuel D. Rauch III,
Deputy Assistant Administrator For Regulatory Programs, National Marine Fisheries Service.

[FR Doc. E7-3337 Filed 2-26-07; 8:45 am]

BILLING CODE 3510-22-S